DEPARTMENT OF AGRICULTURE

Agricultural Marketing Service

[No. LS-00-11]

Market Promotion Funding—Lamb Meat Adjustment Assistance Measures Program

AGENCY: Agricultural Marketing Service, USDA.

ACTION: Notice: Invitation to submit proposals.

SUMMARY: Interested parties are invited to submit proposals for the availability of approximately $1 million in competitive cooperative agreements to carry out “The Summary of Assistance Measures” of the Domestic Lamb Industry Adjustment Assistance Program. Approximately $3.85 million was previously awarded for proposals submitted under this program as announced in the Federal Register, Volume 65, Number 95, Tuesday, May 16, 2000. Funds have been made available through a Memorandum of Understanding (MOU) between the Agricultural Marketing Service (AMS) and the National Sheep Industry Improvement Center (NSIIC) to be awarded in fiscal year (FY) 2001—with projects completed by FY 2002. AMS hereby request proposals for projects from eligible entities interested in applying for competitively awarded cooperative agreements for lamb meat marketing and promotion. The intent is to fund a variety of marketing proposals that will complement previously awarded projects or demonstrate a new strategy to increase the sale of U.S. lamb.

DATES: Proposals must be received at the address below by close of business January 3, 2001.

ADDRESSES: Proposals (original and six copies) should be mailed to: Barry L. Carpenter, Deputy Administrator, Livestock and Seed Program, Agricultural Marketing Service, USDA, Room 2092-S, Stop 0249, 1400 Independence Avenue, SW., Washington, DC 20250-0249; telephone (202) 720-5705.

FOR FURTHER INFORMATION CONTACT: Martin O'Connor, International Marketing Specialist, Standardization Branch on (202) 720-7046, E-mail: Martin.OConnor@usda.gov.

SUPPLEMENTARY INFORMATION:

General Information

This program resulted from the United States International Trade Commission (USITC) findings in Investigation Number TA-201-68 and Presidential Proclamation 7208 of July 7, 1999, made subsequent to those findings, which initiates a 3-year assistance package for the domestic lamb industry. The Secretary of Agriculture outlined the assistance measures that were then incorporated by the Department of Agriculture (USDA) and the Office of Management and Budget into the Domestic Lamb Industry Adjustment Assistance proposal for the U.S. lamb industry. AMS is the lead agency implementing the assistance measures and will administer funds that have been made available through a MOU with the NSIIC for the Marketing and Promotion section of the Domestic Lamb Industry Adjustment Assistance Program for the U.S. lamb industry. AMS is authorized under 7 U.S.C. 1622 of the Agricultural Marketing Act to administer programs of this nature.

The NSIIC is authorized to conduct marketing and promotion programs under section 375 of the Federal Agriculture Improvement and Reform Act of 1996 (7 U.S.C. 2008j). A fund is established in the Treasury of the United States, without fiscal year limitation, to provide funds for the enhancement and marketing of sheep or goat products in the United States. Cooperative agreements for these purposes are authorized by section 375 of the Consolidated Farm and Rural Development Act, 7 U.S.C. 2008j.

Under the terms of the MOU, a total of up to $1 million in addition to funds previously awarded will be provided in competitive cooperative agreements during FY 2001. Projects that are submitted in the proposals should be completed in a timely fashion as provided in the proposal, but under no circumstances later than July 21, 2002. The primary objective of the Domestic Lamb Industry Adjustment Assistance Program is to fund a number of diverse projects that will increase the sale of U.S. lamb regionally, nationally or internationally. The program is administered through USDA, AMS, in accordance with the MOU with NSIIC.

Eligible Applicants

An eligible entity is an organization that promotes the betterment of the United States sheep industry and that is: (a) a public, private, or cooperative organization; (b) an association, including a corporation not operated for profit; (c) a federally recognized Indian Tribe; or (d) a public or quasi-public agency. Under the Lobbying Disclosure Act of 1995, an organization described in section 501(c)(4) of the Internal Revenue Code of 1986 (26 U.S.C. 501 (c)(4)) which engages in lobbying activities, is not eligible to apply.

Use of Funds

Use of funds should directly increase the sale of U.S. lamb meat by focusing on, but not limited to, marketing, promotion, merchandizing, value-added proposals, market feasibility analysis, or market identification. Funds may not be used to: (a) pay costs of preparing the application package; (b) fund political activities; or (c) pay costs incurred prior to the effective date of the cooperative agreement.

Available Funds and Award Limitations

The total amount of additional funds available for cooperative agreements in FYs 2001 and 2002 is approximately $1.0 million. It is anticipated that all funds will be awarded in FY 2001 for projects that will be completed by July 21, 2002. It is expected that there will be submissions that propose to address a variety of needs in promoting U.S. lamb. Proposals may be fully or partially funded. Awards will be segregated so that a variety of marketing strategies and marketing situations will be addressed by the funded proposals. Additionally, proposals which further develop projects previously awarded under AMS Notice No. LS-00-07 will be considered equally with other submissions. The actual number of cooperative agreements funded will depend on the quality of proposals received and the amount of funding requested. The maximum amount of Federal funds awarded for any one proposal will be $250,000. Eligible entities will have the option of withdrawing proposals that are partially funded, if in their opinion, the portion funded does not meet their needs.

Selection Criteria

Initially, the proposal will be reviewed to determine whether the entity submitting the proposal meets the eligibility requirements and whether the proposal application contains the information required. After this initial evaluation, the following criteria will be used to rate and rank proposals received in response to this notice of funding availability. Failure to address any of the criteria will disqualify the proposal. Equal weight shall be given to each of the criteria listed below and points will be awarded to each criterion on a scale of 5, 4, 3, 2, 1. A score of 5 indicates that the proposal was judged to be highly relevant to the criteria and a score of 1 indicates that the proposal was judged not to sufficiently address the criteria. A proposal with an average score from the evaluation panel of AMS and NSIIC technical experts of less than 2 for any one criterion will disqualify the proposal.

Each proposal criteria area will be evaluated and judged on its own merits using the following criteria: (Clarification points are given in the italicized format following each question. They are not part of the criteria, but are provided to help the applicant better understand what the criteria means.)

(1) Demonstrates the potential to positively influence the U.S. lamb market.

Does the promotion place U.S. lamb on the center of the plate or position it well in the market? Does the proposal stress U.S. lamb?

(2) Demonstrates a merchandising strategy to create new sales or expand existing accounts.

Does the proposal address an improvement in product quality or a more consumer friendly product? Is this a new or better merchandising strategy?

(3) Demonstrates a strategy to create value-added linkages among various industry sectors.

Is there a value-added component to the plan? This could be coordination between any two or more sectors of the industry from producers through retailers. Is there production-to-final consumer or “gate-to-plate” component to the proposal?

(4) Demonstrates how the marketing proposal will coincide with the product marketing cycles.

Does the marketing strategy identify and address the cyclical nature of some markets in the lamb industry? That is, in some markets there is a surplus autumn supply with increased demand in the spring.

(5) Identifies coordination throughout the marketing chain to insure supply of the product being marketed in the proposal.

What segment(s) of the marketing chain does the proposal hope to influence? Is there a supplier commitment to provide the product to be marketed?

(6) Provides a detailed analysis of the product, geographic area and target market that will be affected.

Does the proposal identify lamb in general, a specific cut of lamb meat, pelts or other lamb products or processes that will be marketed? Is the target market area well defined? This could be local, regional, national, or international. Are the demographics of the proposed market area well defined and understood? Does the demographic information make the target audience a good candidate for cost efficient marketing?

(7) Provides a timetable and objectives along with quantifiable benchmark and expected results.

Does the proposal include: (a) a clear objective; (b) well-defined tasks that will accomplish the objectives; (c) realistic benchmarks; and (d) a realistic timetable for the completion of the proposed tasks?

(8) Identifies how the proposal coordinates with existing or previous marketing programs.

Is there an existing marketing campaign through a cooperative, Federal Agency, industry group, packer, breaker, or retailer that this proposal compliments? Are there any previous programs that this proposal will help continue? If there is a sheep industry checkoff, what is the likelihood that they would continue this proposed project? If there is no coordination; how will this project make positive impact in lamb marketing?

(9) Identifies the resources needed and a management team with the ability to administer the proposed project.

Does the proposal identify the qualified personnel to complete the proposed project?

What experience does the management team have in marketing this type of product? Does the management team have the experience needed to secure the supply of product to be promoted? Is there a good understanding of the marketing tools being proposed? For example, if the proposal calls for use of radio, show how this fits into the overall marketing strategy, cost, prior experience and expected result.

(10) Identifies other resources that will be used to leverage the funds requested in the proposal.

Does this proposal augment an existing program? Are there other sources of funding or personnel being used to complete the proposed project?

Selection Process

A panel of AMS and NSIIC technical experts will evaluate proposal applications. Applications will be evaluated competitively and points awarded as specified in the Selection Criteria section of this notice. Cooperative agreements will be awarded on a competitive basis to eligible entities. After assigning points upon those criteria, applications will be listed in rank order and presented, along with funding level recommendations, to the Administrator of AMS, who will make the final decision on awarding agreements. AMS reserves the right to make selections out of rank order to provide a diversity of projects targeting various marketing situations, geographic areas or subject matter distribution of funded projects. With respect to any approved proposal, the amount of funding and the project period during which the project may be funded and will be completed, are subject to negotiation prior to finalization of the cooperative agreement.

Proposal Submission

All proposals are to be submitted on standard 8.5x11 inch paper with typing on one side of the page only. In addition, margins must be at least 1 inch, type must be 12 characters per inch (12 pitch or 10 point) or larger, no more than 6 lines per inch.

Content of a Proposal

A proposal must contain the following:

1. Form SF-424 “Application for Federal Assistance.”

2. Form SF-424A “Budget Information-Non Construction Programs.”

3. Form SF-424B “Assurances-Non Construction Programs.”

4. Table of Contents—For ease of locating information, each proposal must contain detailed Table of Contents immediately following the required forms. The Table of Contents should include page numbers for each component of the proposal. Pagination should begin immediately following the Table of Contents.

5. Project Summary: The proposal must contain a project summary of one page or less on a separate page. This page must include the title of the project and the names of the primary project contacts and the applicant organization, followed by the summary. The summary should be self-contained and should describe the overall goals and relevance of the project. The summary should also contain a listing of all organizations involved in the project. The Project Summary should immediately follow the Table of Contents.

6. Project Narrative: The narrative portion of the Project Proposal is limited to ten Pages of text and should contain the following:

a. Introduction. A clear statement of the goals and objectives of the project. The problem should be set in context of the present-day situation. Summarize the body of knowledge which substantiates the need for the proposed project.

b. Rationale and Significance. Substantiate the need for the proposed project. Describe the impact of the project on the United States lamb market. Describe the project's specific relationship to the segment of lamb market being addressed.

c. Objectives and Approach. Discuss the specific objectives to be accomplished under the project. A detailed description of the approach must include:

(1) techniques or procedures used to carry out the proposed activities and for accomplishing the objectives; and (2) the results expected.

d. Timetable. Tentative schedule for conducting the major steps of the project.

e. Evaluation. Provide a plan for assessing and evaluating the accomplishments of the stated objectives during the project and describe ways to determine the effectiveness (impact) of the end results upon conclusion of the project. Awardees will be required to submit written project performance reports on a quarterly basis.

f. Coordination and Management Plan. Describe how the project will be coordinated among various participants and the nature of the collaborations. Describe plans for management of the project to ensure its proper and efficient administration.

What To Submit

An original and 6 copies must be submitted. Each copy must be stapled in the upper left-hand corner. (DO NOT BIND). All copies of the proposal must be submitted in one package.

Other Federal Statutes and Regulations That Apply

Several other Federal, statutes and regulations apply to proposals considered for review and to cooperative agreements awarded under this program. These include but are not limited to:

7 CFR part 1.1—USDA implementation of the Freedom of Information Act.

7 CFR part 15, subpart A—USDA implementation of title VI of the Civil Rights Act of 1964, as amended.

7 CFR part 3015—USDA Uniform Federal Assistance Regulations.

7 CFR part 3016—Uniform Administrative Requirements for Grants and Cooperative Agreement to State and Local Governments.

7 CFR part 3019—Uniform Administrative Requirements for Grant Agreements With Institutions of Higher Education, Hospitals, and Other Nonprofit Organizations.

7 CFR part 3051—Audits of Institutions of Higher Education and Other Nonprofit Institutions.

Public Burden in This Notice

Form SF-424, “Application for Federal Assistance”

This form is used by applicants as a required face sheet for applications for Federal assistance.

Form SF-424A, “Budget Information-Non Construction Programs”

This form must be completed by applicants to show the project's budget breakdown, both as to expense categories and the division between Federal and non-Federal sources.

Form SF-424B, “Assurances-Non Construction Programs”

This form must be completed by the applicant to give the Federal government certain assurances that the applicant has the legal authority to apply for Federal assistance and the financial capability to pay the non-Federal share of project costs. The applicant also gives assurance it will comply with various legal and regulatory requirements as described in the form.

Reporting Requirements

Awardees will be required to submit written project performance reports on a quarterly basis and a final report at the completion of the project. The project performance report and final report shall include, but need not be limited to: (1) A comparison of timeline, tasks and objectives outlined in the proposal as compared to the actual accomplishments; (2) If report varies from the stated objectives or they were not met, the reasons why established objectives were not met; (3) Problems, delays, or adverse conditions which will materially affect attainment of planned project objectives; (4) Objectives established for the next reporting period; and (5) Status of compliance with any special conditions on the use of awarded funds.

Dated: November 28, 2000.
Kathleen A. Merrigan,
Administrator, Agricultural Marketing Service.

[FR Doc. 00-30823 Filed 12-1-00; 8:45 am]

BILLING CODE 3410-02-P